DEPARTMENT OF COMMERCE

International Trade Administration

A-549-502

Circular Welded Carbon Steel Pipes and Tubes From Thailand: Extension of Time Limit for Final Results of Antidumping Duty Administrative Review:

AGENCY: Import Administration, International Trade Administration, Department of Commerce.

EFFECTIVE DATE: July 22, 2008.

FOR FURTHER INFORMATION CONTACT: Myrna Lobo or Jacqueline Arrowsmith, AD/CVD Operations, Office 6, Import Administration, International Trade Administration, U.S. Department of Commerce, 14th Street & Constitution Avenue, N.W., Washington, DC 20230; telephone: (202) 482-2371 or (202) 482-5255, respectively.

Background

On April 7, 2008, the Department published in the Federal Register the preliminary results of the administrative review of the antidumping duty order on circular welded carbon steel pipes and tubes from Thailand. See Circular Welded Carbon Steel Pipes and Tubes from Thailand: Preliminary Results of Antidumping Duty Administrative Review, 73 FR 18749 (April 7, 2008). The current deadline for the final results of this review is August 5, 2008.

Extension of Time Limit for Final Results of Review

Section 751(a)(3)(A) of the Tariff Act of 1930, as amended (the Act), requires the Department to issue the final results in an administrative review within 120 days after the date on which the preliminary results were published. However, if it is not practicable to complete the review within this time period, section 751(a)(3)(A) of the Act allows the Department to extend the time limit for the final results up to 180 days from the date of publication of the preliminary results.

The Department finds that it is not practicable to complete the review within the original time frame due to the further analysis required in this case. In particular, the Department requested further information on Saha Thai's claim for a duty drawback adjustment, and the Department must consider Saha Thai's response, which was received after the issuance of the preliminary results. Therefore, completion of this review is not practicable by the original due date of August 5, 2008. Consequently, in accordance with section 751(a)(3)(A) of the Act and section 351.213(h)(2) of the Department's regulations, the Department is extending the time limit for the completion of the final results of the review for an additional 60 days. Since the 60-day extension would result in the deadline for the final results falling on October 4, 2008, which is a Saturday, the new deadline for the final results will be the next business day, October 6, 2008. See Notice of Clarification: Application of “Next Business Day” Rule for Administrative Determination Deadlines Pursuant to the Tariff Act of 1930, As Amended, 70 FR 24533 (May 10, 2005).

This notice is issued and published in accordance with sections 751(a)(3)(A) and 777(i)(1) of the Act.

Dated: July 16, 2008.
Stephen J. Claeys,
Deputy Assistant Secretary for Import Administration.

[FR Doc. E8-16768 Filed 7-21-04; 8:45 am]

BILLING CODE 3510-DS-S